DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Application for the President's “E” and “E Star” Awards for Export Expansion.

Form Number(s): ITA-725P.

OMB Control Number: 0625-0065.

Type of Request: Regular submission.

Burden Hours: 200.

Number of Respondents: 10.

Average Hours per Response: 20.

Needs and Uses: The “E” Award was created by Executive Order of the President in 1961 to afford suitable recognition to persons, firms, or organizations that contribute significantly in the efforts to increase U.S. exports and to encourage U.S. companies to sell their products and services internationally. The “E Star” Award was authorized by the Secretary of Commerce in 1969 to afford continuing recognition of noteworthy export promotion efforts. Over 2,100 companies and organizations have been recognized with the President's “E” Award and over 300 companies and organizations have been recognized with the President's “E Star” Award. The criteria for the awards include:

• Continuous increase in exports/export service for a four-year period (“E” Award) or three-year period (“E Star” Award).

• “E” and “E Star” Awards for Exports: Demonstration of how a marketing strategy led to an increase in export sales and/or how the marketing plan enabled the firm to enter new markets; how the organization met challenges; and how the firm has worked with U.S. Government export promotion agencies.

• “E” and “E Star” Awards for Export Service: Demonstration of how services used by exporters led to increases and results, and the effectiveness of promotional programs.

The “E” and “E Star” Awards are our nation's highest honor for American exporters. “E” Awards recognize firms and organizations for their competitive achievements in world markets, as well as the benefits of their success to the U.S. economy.

Affected Public: Business or other for-profit organizations.

Frequency: Once.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to David Rostker, OMB Desk Officer, Fax number (202) 395-7285 or via the Internet at David_Rostker@omb.eop.gov.

Dated: April 25, 2008.
Gwellnar Banks,
Management Analyst, Office of the Chief Information Officer.

[FR Doc. E8-9476 Filed 4-29-08; 8:45 am]

BILLING CODE 3510-FP-P